DEPARTMENT OF THE INTERIOR

National Park Service

[NPS-WASO-NAGPRA-NPS0027385; PPWOCRADN0-PCU00RP14.R50000]

Notice of Inventory Completion: Tennessee Department of Environment and Conservation, Division of Archaeology, Nashville, TN

AGENCY: National Park Service, Interior.

ACTION: Notice.

SUMMARY: The Tennessee Department of Environment and Conservation, Division of Archaeology, has completed an inventory of human remains and associated funerary objects in consultation with the appropriate Indian tribes or Native Hawaiian organizations and has determined that there is a cultural affiliation between the human remains and present-day Indian Tribes or Native Hawaiian organizations. Lineal descendants or representatives of any Indian Tribe or Native Hawaiian organization not identified in this notice that wish to request transfer of control of these human remains and associated funerary objects should submit a written request to the Tennessee Department of Environment and Conservation, Division of Archaeology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Tennessee Department of Environment and Conservation, Division of Archaeology at the address in this notice by April 29, 2019.

ADDRESSES: Tennessee Department of Environment and Conservation, Division of Archaeology, Michael C. Moore, 1216 Foster Avenue, Cole Bldg 3, Nashville, TN 37243, telephone (615) 687-4776, email mike.c.moore@tn.gov.

SUPPLEMENTARY INFORMATION: Notice is here given in accordance with the Native American Graves Protection and Repatriation Act (NAGPRA), 25 U.S.C. 3003, of the completion of an inventory of human remains and associated funerary objects under the control of the Tennessee Department of Environment and Conservation, Division of Archaeology, Nashville, TN. The human remains and associated funerary objects were removed from Chattanooga, Hamilton County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Tennessee Department of Environment and Conservation, Division of Archaeology professional staff in consultation with representatives of The Muscogee (Creek) Nation.

History and Description of the Remains

Between April and July 2007, human remains representing, at minimum, 189 individuals were removed from privately-owned property, the David Davis Farm site 40HA301, Chattanooga, Hamilton County, TN, during construction related to a privately-funded commercial venture. A local private consultant, Alexander Archaeological Consultants, conducted the removal. The Tennessee Division of Archaeology received the human skeletal remains and associated burial objects in the summer of 2009, and subsequently entered into an agreement with Middle Tennessee State University (MTSU) to prepare a comprehensive human skeletal inventory. The 2,132 associated funerary objects include: 305 projectile points, 12 discoidals, eight scrapers, six bi-pointed blades, six knives, six bifaces, five celts (including one greenstone spatulate celt, one greenstone celt, and two celt blanks), five hammerstones, four abraders, three blades, one drill, one stone pipe, 87 ceramic beads, 10 complete or partial ceramic vessels, four ceramic pipes, one ceramic disc, 1,270 shell beads, 17 shell pins, nine shell masks, eight shell gorgets (most Citico-style rattlesnake), two shell earplugs, two shell ear spools, 51 other worked/unworked shell objects, 68 worked/unworked animal bone objects, seven metal objects (including two beads and one hilt pommel), and 234 lots of assorted minerals (ochre, hematite, galena, and quartz).

Based on the associated funerary objects, the David Davis Farm site represents a late Mississippian/protohistoric occupation with evidence of Spanish contact.

Determinations Made by the Tennessee Department of Environment and Conservation, Division of Archaeology

Officials of the Tennessee Department of Environment and Conservation, Division of Archaeology have determined that:

• Pursuant to 25 U.S.C. 3001(9), the human remains described in this notice represent the physical remains of 189 individuals of Native American ancestry.

• Pursuant to 25 U.S.C. 3001(3)(A), the 2,132 objects described in this notice are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Lineal descendants or representatives of any Indian tribe or Native Hawaiian organization not identified in this notice that wish to request transfer of control of these human remains and associated funerary objects should submit a written request with information in support of the request to Michael C. Moore, Tennessee Department of Environment and Conservation, Division of Archaeology, 1216 Foster Avenue, Cole Bldg. 3, Nashville, TN 37243, telephone (615) 687-4776, email mike.c.moore@tn.gov, by April 29, 2019. After that date, if no additional requestors have come forward, transfer of control of the human remains and associated funerary objects to The Muscogee (Creek) Nation may proceed.

The Tennessee Department of Environment and Conservation, Division of Archaeology is responsible for notifying The Muscogee (Creek) Nation that this notice has been published.

Dated: February 25, 2019.
Melanie O'Brien,
Manager, National NAGPRA Program.

[FR Doc. 2019-05992 Filed 3-27-19; 8:45 am]

BILLING CODE 4312-52-P